DEPARTMENT OF DEFENSE

Department of the Army; Corps of Engineers

Notice of Availability for the Final Environmental Impact Statement for Widening of the Freeport Ship Channel in Freeport, Brazoria County, TX

AGENCY: Department of the Army, U.S. Army Corps of Engineers, DOD.

ACTION: Notice of availability.

SUMMARY: The U.S. Army Corps of Engineers, Galveston District announces the release of the Final Environmental Impact Statement (FEIS) and the public comment period, and the availability of the Final General Conformity Determination for the Brazos River Harbor Navigation District's (Port of Freeport) proposed widening of the Freeport Harbor Ship Channel.

DATES: The USACE Galveston District will be accepting written public comments on the FEIS through February 11, 2008. All comments must be postmarked by February 11, 2008.

ADDRESSES: You may send written comments to the USACE, Galveston District, Attn: Sam Watson, P.O. Box 1229, Galveston, TX 77553-1229.

FOR FURTHER INFORMATION CONTACT: Questions about the proposed action and FEIS can be answered by Mr. Sam Watson, (409) 766-3946.

SUPPLEMENTARY INFORMATION:

Authority: This Federal Action is in consideration of a Department of the Army Permit application for work under section 10 of the Rivers and Harbors Act of 1899 (33 U.S.C.403), section 404 of the Clean Water Act (33 U.S.C. 1344) and Section 103 of the Marine Protection and Sanctuaries Act (MPRSA) (33 U.S.C. 1413).

Background: In April 2005, Port of Freeport submitted a Department of Army Permit Application to widen portions of the Freeport Harbor Jetty Channel and all of the Freeport Harbor Entrance Channel from 400 feet (ft) to 600 ft. It was determined that an Environmental Impact Statement would be required for the proposed project. Since the November 29, 2005 Scoping Meeting, the consulting firm of PBS&J, under the direction of the Galveston District, U.S. Army Corps of Engineers (USACE), prepared Draft and Final Environmental Impact Statements for the proposed project. The DEIS was made available for a 60-day comment period on November 9, 2006. A public hearing and workshop was held December 6, 2006 in Freeport, Texas. Comments received during the comment period and at the public hearing have been considered in the evaluation of the project and incorporated into the FEIS. The FEIS is now available for public review and comment.

Project Description: Port of Freeport proposes to widen portions of the Freeport Ship Channel. The project includes widening the Freeport Harbor Jetty Channel beginning at Channel Station 63+35 with a gradual widening, at the authorized depth, up to an additional 150 feet (ft) for about 1,835 ft to Channel Station 45+00. From that point to Channel Station 40+00 the widening would be less gradual from the additional 150 ft to an additional 200 ft. Through the rest of the Jetty Channel and to the end of the Freeport Harbor Entrance Channel (Channel Station −260+00), the channel would be widened an additional 200 ft. The length of channel proposed for widening is about 6.1 miles, of which 5.7 miles would be widened by 200 ft. The project depth will remain the same at 45 ft in the Jetty Channel and 47 ft in the Entrance Channel. The widening would generate approximately 3.2 million cubic yards (mcy) of new dredged material. Approximately 2.9 mcy of the new work material would consist of clay material and about 300,000 cubic yards (cy) would consist of silty/sand material. If approved by EPA and by USACE under section 102 and 103 of MPRSA, an ocean dredged material disposal site (ODMDS) previously designated as a one-time use site would be redesignated for placement of the 2.9 mcy of clay/silt material. The 300,000 cy of silty/sand material would be used beneficially and placed on Quintana Beach in front of the Seaway upland confined placement area (UPCA). The beach on either side of this location has been enhanced through Texas General Land Office (GLO) or other programs, but no material was placed in front of the Seaway UPCA. Placement of the material in this location would provide some protection from erosion for the Seaway UPCA, which is an active placement area that has not been used for approximately 6 years because of concerns regarding erosion of the beachfront levee.

Availability of Final Environmental Impact Statement (FEIS): Pursuant to section 102(2)(c) of the National Environmental Policy Act (NEPA) of 1969, as amended and as implemented by the Council on Environmental Quality (40 CFR parts 1500-1508) a FEIS for the proposed Freeport Channel Widening has been filed with the EPA and is being made available to Federal, State, and local agencies and all interested parties. The FEIS can be viewed at http://www.swg.usace.army.mil/reg/pn.asp. Copies of the FEIS are available by contacting Mr. Sam Watson. In addition, copies of the FEIS are available for viewing at the following libraries:

Brazoria County Library System, Catherine H. Threadgill, County Librarian, 451 N Velasco, Angleton, TX 77515.

Brazoria Library, Jerry Measells, Librarian, 620 S. Brooks, Brazoria, TX 77422 .

Clute Library, Carolyn Weatherly, Librarian, 215 N. Shanks, Clute, TX 77531 .

Freeport Library, Marge Janke, Librarian, 410 Brazosport Blvd., Freeport, TX 77541.

Lake Jackson Library, Nancy Hackney, 250 Circle Way, Lake Jackson, TX 77566.

Final General Conformity Review: Pursuant to section 176 of the Clean Air Act Amendments (CAAA) of 1990, a Final General Conformity Determination has been filed with the EPA and Texas Commission on Environmental Quality (TCEQ) and is being made available to Federal, State and local air quality agencies and all interested parties for the proposed Freeport Channel Widening. Copies of the Final General Conformity Determination are available by contacting Mr. Sam Watson. In addition, copies of the Final General Conformity Determination (Appendix G to the FEIS) are available for viewing, along with the FEIS, at the libraries listed above.

Section 102/103: The Environmental Protection Agency (EPA) is charged with developing ocean dumping criteria to be used in evaluating permit applications under section 102(a) of the Marine Protection, Research, and Sanctuaries Act (MPRSA). Section 103 of MPRSA authorizes USACE to permit the placement of dredged material within an ODMDS, subject to EPA concurrence and use of EPA's dumping criteria. For the proposed widening project, USACE would authorize the continued use of the maintenance material ODMDS and the one-time placement of new work material in a previously designated site under section 103, pending EPA concurrence that the criteria continue to be met and that analysis meets EPA guidelines. Additional information regarding the Section 103 authorization is included in the FEIS (primarily in Appendix C).

Other Agency Authorizations: Texas Coastal Zone consistency certification is required. The applicant has stated that the project is consistent with the Texas Coastal Management Program goals and policies and will be conducted in a manner consistent with said Program. In January 2007 the Coastal Coordination Council provided a letter noting that the proposed action is consistent with the Texas Coastal Management Program goals and policies (Appendix I).

National Register of Historic Places: The staff archaeologist has reviewed the latest published version of the National Register of Historic Places, lists of properties determined eligible, and other sources of information. The following is current knowledge of the presence or absence of historic resources and the effects of the proposed project upon these properties: A remote sensing survey of the Freeport Harbor Channel was performed by PBS&J in March and April, 2005 and a close-order survey was performed in February 2006. A total of eleven anomalies having potential historic significance were located in areas of potential impact during the initial inventory. Six of those anomalies were identified as areas that were of potential historic significance during the second inventory. Because these six anomalies occur within areas that would be impacted by bottom disturbing activities, they were surveyed by diving and/or probing to confirm whether or not they are significant archeological sites. None of the anomalies was identified as a cultural resource. In March 2007 the State Historic Preservation Officer (SHPO) concurred that no further investigation was needed on the areas cleared by diving and that the proposed action may proceed (Appendix E).

Threatened and Endangered Species: A Biological Assessment was prepared and was presented to U.S. Fish and Wildlife Service and National Marine Fisheries Service (NMFS) in the DEIS. Consultation with FWS regarding nesting sea turtles and piping plover was completed informally. NMFS has reviewed the Biological Assessment (BA) and has prepared a Biological Opinion (BO) outlining the measures to be taken to avoid and minimize potential sea turtle takes, particularly during hopper dredging activities. NMFS' finding was that the proposed action is likely to adversely affect but is not likely to jeopardize the continued existence of loggerhead, hawksbill, leatherback, Kemp's ridley, or green sea turtles.

Essential Fish Habitat: Consultation for Essential Fish Habitat of the Magnuson-Stevens Fishery Conservation and Management Act was initiated in November 2005 via the workshop prior to the public scoping meeting. Letters were also sent to the NMFS in February and May, 2006. Our initial determination is that the proposed action would not have a substantial adverse impact on Essential Fish Habitat (EFH) or Federally managed fisheries in the Gulf of Mexico. NMFS has reviewed the analysis provided in the DEIS and concurred with the finding that the proposed placement of dredged material will not significantly affect EFH and that no further consultation is required (Appendix I).

Public Interest Review Factors: The application will be reviewed in accordance with 33 CFR 320-330, the Regulatory Programs of USACE, and other pertinent laws, regulations and executive orders. The decision whether to issue a permit will be based on an evaluation of the probable impacts, including cumulative impacts, of the proposed activity on the public interest. That decision will reflect the national concern for both protection and utilization of important resources. The benefits, which reasonably may be expected to accrue from the proposal, must be balanced against reasonably foreseeable detriments associated with the proposal. All factors which may be relevant to the proposal will be considered. These include, but are not limited to: dredged material management, air quality, shoreline erosion, economics, general environmental concerns, historic resources, protected species, navigation, recreation, water and sediment quality, energy needs, safety, hazardous materials, and, in general, the welfare of the people.

Solicitation of Comments: USACE is soliciting comments from the public, Federal, State, and local agencies and officials, Indian tribes, and other interested parties in order to consider and evaluate the impacts of this proposed activity. Any comments received will be considered by USACE to determine whether to issue, modify, condition or deny a permit for this proposal. To make this decision, comments will be considered in the evaluation of impacts on endangered species, historic properties, water quality, general environmental effects, and the other public interest factors listed above. Comments will be used in the preparation of the Record of Decision pursuant to NEPA. Comments are also used to determine the overall public interest of the proposed activity.

Brenda S. Bowen,
Army Federal Register Liaison Officer.

[FR Doc. E8-377 Filed 1-10-08; 8:45 am]

BILLING CODE 3710-52-P